DEPARTMENT OF HEALTH AND HUMAN SERVICES

Health Resources and Services Administration

Advisory Committee on Organ Transplantation; Notice of Meeting

In accordance with section 10(a)(2) of the Federal Advisory Committee Act (Pub. L. 92-463), notice is hereby given of the following meeting:

Name: Advisory Committee on Organ Transplantation (ACOT).

Date and Time: March 7, 2013, 10:00 a.m. to 4:00 p.m. Eastern Time.

Place: The meeting will be via audio conference call and Adobe Connect Pro.

Status: The meeting will be open to the public.

Purpose: Under the authority of 42 U.S.C. 217a, Section 222 of the Public Health Service Act, as amended, and 42 CFR 121.12 (2000), ACOT was established to assist the Secretary in enhancing organ donation, ensuring that the system of organ transplantation is grounded in the best available medical science, and assuring the public that the system is as effective and equitable as possible, thereby, increasing public confidence in the integrity and effectiveness of the transplantation system. ACOT is composed of up to 25 members including the Chair. Members are serving as Special Government Employees and have diverse backgrounds in fields such as organ donation, health care public policy, transplantation medicine and surgery, critical care medicine, and other medical specialties involved in the identification and referral of donors, non-physician transplant professions, nursing, epidemiology, immunology, law and bioethics, behavioral sciences, economics and statistics, as well as representatives of transplant candidates, transplant recipients, organ donors, and family members.

Agenda: The Committee will hear presentations including those from the following ACOT Work Groups: Kidney Paired Donation; Research Barriers; and Alignment of CMS Regulatory Requirements with Organ Procurement and Transplantation Network and HRSA. Agenda items are subject to change as priorities indicate.

After Committee discussion, members of the public will have an opportunity to comment. Because of the Committee's full agenda and timeframe in which to cover the agenda topics, public comment will be limited. All public comments will be included in the record of the ACOT meeting. Meeting summary notes will be posted on the Department's donation Web site at http://www.organdonor.gov/legislation/advisory.html#meetings.

The draft meeting agenda will be posted on www.blsmeetings.net/ACOTSPRING2013.Those planning on participating in this meeting should register by visiting www.blsmeetings.net/ACOTSPRING2013. The deadline to register for this meeting is March 4, 2013. For all logical questions and concerns, please contact Brittany Irvine, Conference Planner, at birvine@seamoncorporation.com (or by phone at 301-577-0244).

The public can join the meeting by:

1. (Audio Portion) Calling the Conference Phone Number (888-995-9571) and providing the Participant Code (2244857); and

2. (Visual Portion) Connecting to the ACOT Adobe Connect Pro Meeting using the following URL: https://hrsa.connectsolutions.com/adv_cmt/ (copy and paste the link into your browser if it does not work directly, and enter as a guest). Participants should call and connect 15 minutes prior to the meeting in order for logistics to be set up. If you have never attended an Adobe Connect meeting, please test your connection using the following URL: https://hrsa.connectsolutions.com/common/help/en/support/meeting_test.htm and get a quick overview by the following URL: http://www.adobe.com/go/connectpro_overview. Call 301-443-0437 or send an email to ptongele@hrsa.gov if you are having trouble connecting to the meeting site.

Public Comment: It is preferred that persons interested in providing an oral presentation submit a written request, along with a copy of their presentation to: Passy Tongele, Division of Transplantation (DoT), Healthcare Systems Bureau (HSB), Health Resources and Services Administration (HRSA), Room 12C-06, 5600 Fishers Lane, Rockville, Maryland 20857 or email at ptongele@hrsa.gov. Requests should contain the name, address, telephone number, email address, and any business or professional affiliation of the person desiring to make an oral presentation. Groups having similar interests are requested to combine their comments and present them through a single representative.

The allocation of time may be adjusted to accommodate the level of expressed interest. Persons who do not file an advance request for a presentation, but desire to make an oral statement, may request it at the time of the public comment period. Public participation and ability to comment will be limited to space and time as it permits.

FOR FURTHER INFORMATION CONTACT: Patricia Stroup, Executive Secretary, Healthcare Systems Bureau, Health Resources and Services Administration, 5600 Fishers Lane, Room 12C-06, Rockville, Maryland 20857; telephone 301-443-1127.

Dated: February 12, 2013.
Bahar Niakan,
Director, Division of Policy and Information Coordination.

[FR Doc. 2013-03713 Filed 2-15-13; 8:45 am]

BILLING CODE 4165-15-P